DEPARTMENT OF COMMERCE

[I.D. 122304B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Cooperative Charting Programs.

Form Number(s): NOAA Form 77-5.

OMB Approval Number: 0648-0022.

Type of Request: Regular submission.

Burden Hours: 8,200.

Number of Respondents: 1,800.

Average Hours Per Response: Two hours for web response, three hours for paper response.

Needs and Uses: U.S. Coast Guard Auxiliary members report observations of changes that require additions, corrections, or revisions to nautical charts on the NOAA Form 77-5. The U.S. Power Squadrons use a website to report the same. The information provided is used by NOS cartographers to maintain and prepare new additions of nautical charts that are used nationwide by commercial and recreational navigators.

Affected Public: Individuals or households; not-for-profit institutions.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: December 21, 2004.
Gwellnar Banks,
Management Analyst, Office of the Chief Information Officer.

[FR Doc. 04-28542 Filed 12-28-04; 8:45 am]

BILLING CODE 3510-JE-S